DEPARTMENT OF COMMERCE

National Oceanic and Atmospheric Administration

RIN 0648-XF97

Marine Mammals; File No. 10137-01

AGENCY: National Marine Fisheries Service (NMFS), National Oceanic and Atmospheric Administration (NOAA), Commerce.

ACTION: Notice; issuance of permit amendment and proposed amendment.

SUMMARY: Notice is hereby given that the NMFS Pacific Islands Fisheries Science Center, Marine Mammal Research Program (MMRP), 2570 Dole Street, Honolulu, HI 96822-2396 (Responsible Party: Frank Parrish, Ph.D.), has been issued an amendment to Permit No. 10137 to conduct research and enhancement activities on Hawaiian monk seals (Monachus schauinslandi).

ADDRESSES: The permit and related documents are available for review upon written request or by appointment in the following offices:

Permits, Conservation and Education Division, Office of Protected Resources, NMFS, 1315 East-West Highway, Room 13705, Silver Spring, MD 20910; phone (301)713-2289; fax (301)713-0376; and

Pacific Islands Region, NMFS, 1601 Kapiolani Blvd., Rm 1110, Honolulu, HI 96814-4700; phone (808)944-2200; fax (808)973-2941.

FOR FURTHER INFORMATION CONTACT: Amy Sloan or Kate Swails, (301)713-2289.

SUPPLEMENTARY INFORMATION: On March 6, 2008, notice was published in the Federal Register (73 FR 12137) that a request for a permit to take the species identified above had been submitted by the MMRP. The permit was issued on June 30, 2009 (74 FR 33210), under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226). Notice of the proposed amendment was published on June 30, 2009 (74 FR 33210).

Permit No. 10137 authorizes the MMRP to: (1) assess survivorship, reproductive rates, pup production, condition, abundance, movements among subpopulations, and incidence and causes of injury or mortality of Hawaiian monk seals; (2) diagnose disease, monitor exposure to disease, and develop normal baseline hematology and biochemistry parameters; (3) conduct activities to increase survival of individuals; and (4) investigate foraging ecology to determine foraging locations, diving parameters, characteristics of foraging substrate, and prey identification and foraging behaviors.

Permit No. 10137-01 amends and replaces Permit No. 10137. Permit No. 10137-01 authorizes the activities describe above and includes authorization to translocate six pups from French Frigate Shoals to Nihoa Island in 2009. Further translocations of up to 20 pup or juvenile between islands/atolls within the Northwestern Hawaiian Islands, as described in the original permit application, will be deferred until a separate Endangered Species Act section 7 consultation is completed. At such time, NMFS proposes to amend Permit No. 10137-01 to include additional translocations of seals. Permit No. 10137-01 expires on June 30, 2014.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: August 14, 2009.
P. Michael Payne,
Chief, Permits, Conservation and Education Division, Office of Protected Resources, National Marine Fisheries Service.

[FR Doc. E9-20032 Filed 8-19-09; 8:45 am]

BILLING CODE 3510-22-S